DEPARTMENT OF THE INTERIOR

Bureau of Land Management

[LLWY930000-L51100000-GN0000-LVEMK10CW370; WYW140590]

Notice of Intent To Prepare an Environmental Impact Statement for the Gas Hills Uranium Project, Fremont and Natrona Counties, WY

AGENCY: Bureau of Land Management, Interior.

ACTION: Notice of Intent.

SUMMARY: Pursuant to the National Environmental Policy Act of 1969, as amended, (NEPA) and in response to a proposal filed by Power Resources Inc., doing business as Cameco Resources (Cameco), the Bureau of Land Management (BLM), announces its intention to prepare an Environmental Impact Statement (EIS) and to solicit public comments regarding issues and resource information for the proposed Gas Hills in situ recovery (ISR) Uranium Project (the Project), Fremont County and Natrona County, Wyoming. The project is a uranium exploration and development project.

DATES: This notice initiates the public scoping process. The BLM can best consider public input if comments and resource information are submitted within 45 days of publication of this notice. To provide the public with an opportunity to review the proposal and project information, the BLM will host public meetings in Lander, Riverton, and Casper, Wyoming. The BLM will announce the dates, times, and locations for these meetings at least 15 days prior to each event. Announcements will be made by news release to the media, individual letter mailings, and posting on the project Web site listed below.

ADDRESSES: Written comments or resource information may be mailed to: Bureau of Land Management, Lander Field Office, Attn: Kristin Yannone, Project Manager, P.O. Box 589, Lander, Wyoming 82520. Comments may be submitted electronically at: Gas_Hills_Uranium_EIS_WY@BLM.gov. Project information and documents will be available on the project Web site at: http://www.blm.gov/wy/st/en/info/NEPA/lfodocs/gashills.html.

FOR FURTHER INFORMATION: For information or to add your name to the project mailing list, contact Kristin Yannone, Project Leader, at 307-332-8448.

SUPPLEMENTARY INFORMATION: The Gas Hills Uranium Project is generally located in:

Sixth Principal Meridian, Wyoming

T. 32 N., R. 80 and 90 W.

T. 33 N., R. 80 and 90 W.

This is an area of historic uranium mining development, the earliest of which dates back to the 1950s. This area lies in the eastern part of Fremont County and the western part of Natrona County, approximately 50 road miles east of Riverton, Wyoming, and approximately 85 road miles west of Casper, Wyoming, in the Gas Hills Mining District, in which little to no actual mining activity has taken place since the 1980s.

The Project area covers approximately 8,538 surface acres (approximately 13 square miles) of mixed ownership including 7,940 acres of Federal surface, 161 acres under State ownership, and 394 acres of private lands. Approximately 8,006 acres of Federal mineral estate is included in the Project area. While the Project area contains Federal surface and mineral estate under the jurisdiction of both the BLM Lander and BLM Casper field offices, the Lander Field Office will serve as the lead office for coordinating the environmental analysis. The Project is permitted by the Wyoming Department of Environmental Quality—Land Quality Division (LQD) under Permit to Mine No. 687 and is licensed by the U.S. Nuclear Regulatory Commission under Source Materials License SUQ-1548. Cameco also controls mining claims outside of the approved mining permit boundary for which future exploration and development are planned.

In August 2008, as required by the surface management regulations contained in 43 CFR subpart 3809, Cameco submitted a Plan of Operations to the BLM describing their intent to develop their claims in the area with an ISR mining operation, which would affect more than a total of 640 acres over the life of the mine. For more information about the ISR process, the reader is referred to the Nuclear Regulatory Commission's Generic EIS of In-Situ Leach Uranium Milling Facilities (2009) available at: http://www.nrc.gov/reading-rm/doc-collections/nuregs/staff/sr1910/; particularly Chapter 2. The BLM anticipates impacts from the ISR mining. The environmental analysis will consider the activities conducted under the Plan of Operations submitted to the BLM.

The purpose of the proposed Project is to explore for and identify mining reserves and extract approximately 1 million to 2.5 million pounds of uranium per year over an anticipated project life of 25 years. The Project will use ISR mining methods and will be operated as a satellite facility to the Cameco Smith Ranch-Highland uranium ISR mine operating in Converse County, Wyoming. An existing large building will house the site's central processing facilities. The surface disturbance will be limited to the construction of water wells, buried water pipelines, single-lane gravel access roads, and small buildings for well-head manifold control equipment known as header houses.

The ISR mining recovery method uses chemicals to remove the uranium minerals from the host rock in place and does not require physically removing and crushing ore-bearing rock. It does not use large earth-moving equipment and does not create large volumes of waste rock or tailings. The ISR methodology utilizes a solution consisting of oxygen and carbon dioxide or bicarbonate mixed with water, which is injected via conventional water wells into uranium ore-bearing rock formations in the subsurface. The solution dissolves the uranium minerals from the rock formations into the circulating groundwater and the resultant uranium-bearing groundwater is recovered by pumping at recovery wells located adjacent to the injection wells. Before ISR operations can begin, the portion of the aquifer designated for uranium recovery must be exempted as an underground source of drinking water in accordance with the Safe Drinking Water Act. The groundwater containing uranium is then processed through an ion-exchange facility where the uranium is precipitated onto a resin bead media. The water is recharged with solvent and used in the further recovery of uranium. Any excess water no longer needed is evaluated for its constituents and properly disposed of via evaporation or an approved disposal well. The resin beads containing uranium will then be transported to the Cameco Smith Ranch-Highland facility for processing into uranium yellowcake. After the uranium has been removed, the resin bead media will be returned to the Project site for re-use. The distance one-way from the Gas Hills to Smith Ranch-Highland is approximately 140 road miles.

The Project activities will include the drilling of exploratory boreholes; installation of monitoring wells, injection wells, and production wells; construction of uranium processing and waste water treatment facilities; and development of new and improvement of existing access roads within separately defined potential uranium recovery areas known as mine units. Surface-disturbing and interim-reclamation activities will be performed sequentially to minimize the amount of surface disturbance at any one time.

Surface disturbance within a mine unit will not occur all at once but is phased over several years, depending on the uranium production rate and the availability of mine construction equipment and personnel. Cameco estimates that of the approximately 1,205 acres that will be disturbed over the 25-year life of the Project, approximately 50 acres (4 percent of the total acreage) each year will be disturbed, undergo interim reclamation, and subsequently be returned to wildlife habitat that meets BLM and State of Wyoming reclamation standards. Final surface reclamation is also required by regulatory agencies and assured by bonds. Final reclamation includes plugging and abandoning all mining wells, removing header houses and buried piping, and re-grading and seeding the disturbed surface. After vegetation has been re-established, the mine unit surface will be returned to its pre-mining use of livestock grazing and wildlife habitat. Cameco estimates that the long-term post-mining footprint will be negligible because the ISR mining method does not require removal of rock.

Restoration of groundwater to pre-mining quality and final surface reclamation within a mine unit is also a sequenced, phased process. When uranium production from a mining unit is no longer feasible economically, groundwater production wells will be switched to groundwater restoration. Restoration is accomplished through a combination of methods, including reinjection of treated groundwater, bioremediation, and addition of reducing chemicals that make the uranium insoluble and clean the groundwater. Once Cameco has restored the groundwater within a mine unit to pre-mining quality, as required and monitored by regulatory agencies and assured by financial bonds, final surface reclamation will be implemented. Groundwater sampling data suggests that mining unit groundwater quality is generally marginally potable but does exhibit certain parameters, including radionuclides, which exceed primary or secondary maximum contaminant levels for drinking water standards.

Cameco estimates that the Project will employ a mix of full-time personnel and temporary contractors throughout the life of the mine. During the construction of each mine unit, approximately 15 to 20 full-time employees plus 50 drilling contractors will be employed. During mining operations, approximately 30 full-time employees plus approximately 22 installation contractors will be required. It is likely that the majority of employees will live in Riverton and the remainder in Casper. The Project is projected to provide an economic benefit through a variety of taxes paid to Federal, State, and local governments, including employee income, severance, property, and sales taxes. The proposed action is in conformance with the Lander Resource Management Plan/Final Environmental Impact Statement (LRMP/Final EIS) and Record of Decision (ROD), 1987, and the Casper Resource Management Plan (CRMP/EIS) and ROD, 2007. During the preparation of the EIS, interim exploration and development will be subject to development guidelines and decisions made in applicable NEPA documents, including the CRMP, 2007 and the LRMP, 1987. The EIS for the Project will analyze the environmental consequences of implementing the proposed action and alternatives to the proposed action, including a No Action alternative. Other alternatives that may be considered in detail could include, for example, drilling surface densities, reclamation schedule adjustments, or perhaps a pace of development different from those of the proposed action.

Your input is important and will be considered in the environmental analysis process. All comment submittals must include the commenter's name and street address. Comments, including the names and addresses of the respondent, will be available for public inspection at the above offices during normal business hours, Monday through Friday, except Federal holidays. All submissions from organizations or businesses, and from individuals identifying themselves as representatives or officials of organizations or businesses, will be made available for public inspection in their entirety.

Before including your address, phone number, e-mail address, or any other personal identifying information in your comment, please consider that your entire comment—including your personal identifying information—may be publicly available at any time.

While you can ask us in your comment to withhold from public review your personal identifying information, we cannot guarantee that we will be able to do so.

Donald A. Simpson,
State Director.

[FR Doc. 2010-22174 Filed 9-3-10; 8:45 am]

BILLING CODE 4310-22-P